DEPARTMENT OF COMMERCE

International Trade Administration

[A-351-843, A-570-029, A-533-865, A-588-873, A-580-881, A-821-822, A-412-824]

Certain Cold-Rolled Steel Flat Products From Brazil, the People's Republic of China, India, Japan, the Republic of Korea, the Russian Federation, and the United Kingdom: Postponement of Preliminary Determinations of Antidumping Duty Investigations

AGENCY: Enforcement and Compliance, International Trade Administration, Department of Commerce

DATES: Effective Date: November 30, 2015.

FOR FURTHER INFORMATION CONTACT: Hermes Pinilla at (202) 482-3477 (Brazil); Scott Hoefke at (202) 482-2947 (the People's Republic of China (PRC)); Patrick O'Connor at (202) 482-0989 (India and Japan); Steve Bezirganian at (202) 482-1131 (the Republic of Korea (Korea)); Eve Wang at (202) 482-6231 (the Russian Federation (Russia)); and Thomas Schauer at (202) 482-0410 (the United Kingdom), AD/CVD Operations, Enforcement and Compliance, U.S. Department of Commerce, 14th Street and Constitution Avenue NW., Washington, DC 20230.

SUPPLEMENTARY INFORMATION:

Background

On August 17, 2015, the Department of Commerce (the Department) initiated antidumping duty (AD) investigations of imports of certain cold-rolled steel flat products (cold-rolled steel) from Brazil, the PRC, India, Japan, Korea, Russia, and the United Kingdom.¹ The notice of initiation stated that, in accordance with section 733(b)(l)(A) of the Tariff Act of 1930, as amended (the Act), and 19 CFR 351.205(b)(1), we would issue our preliminary determinations no later than 140 days after the date of initiation, unless postponed. Currently, the preliminary determinations in these investigations are due no later than January 4, 2016.

¹ See Certain Cold-Rolled Steel Flat Products From Brazil, the People's Republic of China, India, Japan, the Republic of Korea, the Netherlands, the Russian Federation, and the United Kingdom: Initiation of Less-Than-Fair-Value Investigations, 80 FR 51198 (August 24, 2015). The investigation on cold-rolled steel from the Netherlands was terminated as a result of a negative preliminary injury determination by the International Trade Commission. See Cold-Rolled Steel Flat Products From Brazil, China, India, Japan, Korea, Netherlands, Russia, and the United Kingdom, 80 FR 55872 (September 17, 2015).

Postponement of Preliminary Determinations

Sections 733(c)(1)(B)(i) and (ii) of the Act permit the Department to postpone the time limit for the preliminary determination if it concludes that the parties concerned are cooperating and determines that the case is extraordinarily complicated by reason of the number and complexity of the transactions to be investigated or adjustments to be considered, the novelty of the issues presented, or the number of firms whose activities must be investigated, and additional time is necessary to make the preliminary determination. Under this section of the Act, the Department may postpone the preliminary determination until no later than 190 days after the date on which the Department initiated the investigation.

The Department determines that the parties involved in the cold-rolled steel AD investigations on Brazil, India, Japan, the Republic of Korea, the Russian Federation, and the United Kingdom are cooperating, and that the investigations are extraordinarily complicated. Additional time is required to analyze the questionnaire responses and issue appropriate requests for clarification and additional information. With regard to the PRC investigation, this case has necessitated multiple rounds of quantity and value questionnaires, independent research into respondent locations, and ongoing analysis. As with the other investigations, we consider this case to be extraordinarily complicated and will require additional time to explore our options moving forward.

Therefore, in accordance with section 733(c)(1)(B) of the Act and 19 CFR 351.205(f)(1), the Department is postponing the time period for the preliminary determinations of these investigations by 50 days, to February 23, 2016. Pursuant to section 735(a)(l) of the Act and 19 CFR 351.210(b)(1), the deadline for the final determinations will continue to be 75 days after the date of the preliminary determinations, unless postponed at a later date.

This notice is issued and published pursuant to section 733(c)(2) of the Act and 19 CFR 351.205(f)(1).

Dated: November 20, 2015.
Paul Piquado,
Assistant Secretary for Enforcement and Compliance.

[FR Doc. 2015-30343 Filed 11-27-15; 8:45 am]

BILLING CODE 3510-DS-P